NUCLEAR REGULATORY COMMISSION

[Docket No. 50-271]

Entergy Nuclear Vermont Yankee, LLC., and Entergy Nuclear Operations, Inc., Vermont Yankee Nuclear Power Station; Notice of Availability of the Final Supplement 30 to the Generic Environmental Impact Statement for License Renewal of Nuclear Plants, Regarding the License Renewal of Vermont Yankee Nuclear Power Station

Notice is hereby given that the U.S. Nuclear Regulatory Commission (NRC, Commission) has published a final plant-specific supplement to the “Generic Environmental Impact Statement for License Renewal of Nuclear Plants (GEIS)”, NUREG-1437, regarding the renewal of operating license DPR-28 for an additional 20 years of operation for the Vermont Yankee Nuclear Power Station (Vermont Yankee). Vermont Yankee is located in the town of Vernon, Vermont, in Windham County on the west shore of the Connecticut River. Possible alternatives to the proposed action (license renewal) include no action and reasonable alternative energy sources.

As discussed in Section 9.3 of the final Supplement 30, the recommendation of the staff is that the Commission determine that the adverse environmental impacts of license renewal for Vermont Yankee are not so great that preserving the option of license renewal for energy-planning decision makers would be unreasonable. The recommendation is based on: (1) The analysis and findings in the GEIS; (2) the Environmental Report submitted by Entergy; (3) consultation with Federal, State, and local agencies; (4) the staff's own independent review; and (5) the staff's consideration of public comments.

The final Supplement 30 to the GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Numbers for the final Supplement 30 to the GEIS are ML072050012 for Volume 1, Main Report, and ML072050013 for Volume 2, Appendices. Persons who do not have access to ADAMS, or who encounter problems in accessing the documents located in ADAMS, should contact the NRC's PDR reference staff by telephone at 1-800-397-4209, or 301-415-4737, or by e-mail at pdr@nrc.gov. In addition, final supplement to the GEIS will be available at the following libraries for public inspection: Vernon Free Library, 567 Governor Hunt Road, Vernon, Vermont; Brooks Memorial Library, 224 Main Street, Brattleboro, Vermont; Hinsdale Public Library, 122 Brattleboro Road, Hinsdale, New Hampshire; and Dickinson Memorial Library, 115 Main Street, Northfield, Massachusetts.

FOR FURTHER INFORMATION CONTACT: Mr. Richard L. Emch, Jr., Environmental Branch B, Division of License Renewal, Office of Nuclear Reactor Regulation, U.S. Nuclear Regulatory Commission, Mail Stop O-11F1, Washington, DC 20555-0001. Mr. Emch may be contacted by telephone at 1-800-368-5642, extension 1590 or via e-mail at rle@nrc.gov.

Dated at Rockville, Maryland, this 1st day of August, 2007.
For the Nuclear Regulatory Commission.
Rani L. Franovich,
Branch Chief, Environmental Branch B, Division of License Renewal, Office of Nuclear Reactor Regulation.

[FR Doc. E7-15345 Filed 8-6-07; 8:45 am]

BILLING CODE 7590-01-P